DEPARTMENT OF COMMERCE

National Oceanic and Atmospheric Administration

Proposed Information Collection; Comment Request; NOAA Satellite Ground Station Customer Questionnaire

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 30, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to James McNitt at 301-817-3842 or james.mcnitt@noaa.gov.

SUPPLEMENTARY INFORMATION:

I. Abstract

This request is for an extension of a currently approved information collection. NOAA asks people who operate ground receiving stations that receive data from NOAA satellites to complete a questionnaire about the types of data received, its use, the equipment involved, and similar subjects. Members of NOAA's Direct Broadcast User Groups are asked follow-up questions. The data obtained are used by NOAA for short-term operations and long-term planning. Collection of this data assists us in complying with the terms of our Memorandum of Understanding (MOU) with the World Meteorological Organization: United States Department of Commerce, National Oceanic and Atmospheric Administration (NOAA) on area of common interest (2008).

II. Method of Collection

The information is collected via an online questionnaire.

III. Data

OMB Control Number: 0648-0227.

Form Number: None.

Type of Review: Regular submission (extension of a currently approved information collection).

Affected Public: Not-for-profit institutions; business or other for-profit organizations, individuals or households; federal government; state, local or tribal Government.

Estimated Number of Respondents: 300.

Estimated Time per Response: 5 minutes.

Estimated Total Annual Burden Hours: 25.

Estimated Total Annual Cost to Public: $0 in capital and recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 25, 2018.
Sarah Brabson,
NOAA PRA Clearance Officer.

[FR Doc. 2018-11651 Filed 5-30-18; 8:45 am]

BILLING CODE 3510-HR-P